DEPARTMENT OF HEALTH AND HUMAN SERVICES

Centers for Disease Control and Prevention

Task Force on Community Preventive Services

In accordance with section 10(a)(2) of the Federal Advisory Committee Act (Pub. L. 92-463), the Centers for Disease Control and Prevention (CDC) announce the following meeting:

Name: Task Force on Community Preventive Services Meeting.

Times and Dates: 8 a.m.-5:30 p.m. EST, October 14, 2009. 8 a.m.-1 p.m. EST, October 15, 2009.

Place: Centers for Disease Control and Prevention, 2500 Century Parkway, Room 1200/1201, Atlanta, Georgia 30345.

Status: Open to the public, limited only by space available.

Purpose: The mission of the Task Force is to develop and publish the Guide to Community Preventive Services (Community Guide), which is based on the best available scientific evidence and current expertise regarding essential public health and what works in the delivery of those services.

Topics:

—Interventions to increase screening for breast, cervical and colorectal cancer and of interventions to increase vaccination rates: Updates of reviews.

—Assessing effectiveness of interventions to increase physical activity.

—Assessing the scope of reviews of interventions to reduce inequalities in health outcomes.

Agenda items are subject to change as priorities dictate.

Contact person for additional information: Freda Parker, Community Guide Branch, Coordinating Center for Health Information and Service, National Center for Health Marking, Division of Health Communication and Marketing, 1600 Clifton Road, M/S E-69, Atlanta, GA 30333, phone: 404.498.1119.

Dated: September 17, 2009.
Tanja Popovic,
Chief Science Officer, Centers for Disease Control and Prevention.

[FR Doc. E9-22885 Filed 9-22-09; 8:45 am]

BILLING CODE 4163-18-P